DEPARTMENT OF ENERGY

Federal Energy Regulatory Commission

[Docket No. CP17-486-000]

National Fuel Gas Supply Corporation; Notice of Request for Extension of Time

Take notice that on December 11, 2020, National Fuel Gas Supply Corporation (National Fuel) requested that the Federal Energy Regulatory Commission (Commission) grant an extension of time, until December 1, 2023, to continue using Well 7451 in the Beech Hill Storage Field (Beech Hill) as a withdrawal-only well in order to continue to collect and evaluate information it needs to further demonstrate and assess the reservoir connection between the Beech Hill Complex and the Shongo Pool.

The Commission authorized National Fuel to test Well 7451 and to assess the connection between the Beech Hill Complex and the Shongo Pool in its January 26, 2018 order, for a term not to exceed three years (January 2018 Order).¹ Ordering Paragraph (A) of the January 2018 Order requires National Fuel to notify the Commission within three years of the certificate being issued, if the certificate authorization needs to be abandoned.²

¹ National Fuel Gas Supply Corporation, 162 FERC ¶ 62,063 (2018).

² Id., at Ordering Paragraph A.

National Fuel states that it has not collected enough information about Well 7451 to make any final determinations as required by the Commission approved Containment Plan of the Beech Hill Storage Field.³ National Fuel's reservoir models have projected different points at which the effect of any interconnection may be evident, the soonest point those models project the effect will be evident is when an additional withdrawal of 0.655 Bcf of gas from Well 7451 occurs. National Fuel expects it will take about two years or longer to reach a level of total withdrawal that will provide information needed to verify and update the reservoir models.

³ See National Fuel Gas Supply Corporation, Beech Hill Containment and Management Plan, filed February 1, 2017 and Commission March 6, 2017 unpublished letter to National Fuel regarding the Beech Hill Containment and Management Plan.

This notice establishes a 15-calendar day intervention and comment period deadline. Any person wishing to comment on National Fuel's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).⁴

⁴ Only motions to intervene from entities that were party to the underlying proceeding will be accepted. Algonquin Gas Transmission, LLC, 170 FERC ¶ 61,144, at P 39 (2020).

As a matter of practice, the Commission itself generally acts on requests for extensions of time to complete construction for Natural Gas Act facilities when such requests are contested before order issuance. For those extension requests that are contested,⁵ the Commission will aim to issue an order acting on the request within 45 days.⁶ The Commission will address all arguments relating to whether the applicant has demonstrated there is good cause to grant the extension.⁷ The Commission will not consider arguments that re-litigate the issuance of the certificate order, including whether the Commission properly found the project to be in the public convenience and necessity and whether the Commission's environmental analysis for the certificate complied with the National Environmental Policy Act.⁸ At the time a pipeline requests an extension of time, orders on certificates of public convenience and necessity are final and the Commission will not re-litigate their issuance.⁹ The OEP Director, or his or her designee, will act on all of those extension requests that are uncontested.

⁵ Contested proceedings are those where an intervenor disputes any material issue of the filing. 18 CFR 385.2201(c)(1) (2019).

⁶ Algonquin Gas Transmission, LLC, 170 FERC ¶ 61,144, at P 40 (2020).

⁷ Id. at P 40.

⁸ Similarly, the Commission will not re-litigate the issuance of an NGA section 3 authorization, including whether a proposed project is not inconsistent with the public interest and whether the Commission's environmental analysis for the permit order complied with NEPA.

⁹ Algonquin Gas Transmission, LLC, 170 FERC ¶ 61,144, at P 40 (2020).

In addition to publishing the full text of this document in the Federal Register, the Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFile” link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852.

Comment Date: 5:00 p.m. Eastern Time on January 4, 2021.

Dated: December 18, 2020.
Kimberly D. Bose,
Secretary.

[FR Doc. 2020-28563 Filed 12-23-20; 8:45 am]

BILLING CODE 6717-01-P